ENVIRONMENTAL PROTECTION AGENCY

[FRL-10164-03-R4]

Draft National Pollutant Discharge Elimination System (NPDES) General Permit for the Eastern Portion of the Outer Continental Shelf (OCS) of the Gulf of Mexico (GEG460000); Availability of Draft National Environmental Policy (NEPA) Categorial Exclusion (CatX); Extension of Comment Period

AGENCY: Environmental Protection Agency (EPA).

ACTION: Notice of proposed reissuance of NPDES general permit; extension of public comment period.

SUMMARY: The Environmental Protection Agency (EPA) is extending the comment period for the proposed Draft National Pollutant Discharge Elimination System (NPDES) General Permit for the Eastern Portion of the Outer Continental Shelf (OCS) of the Gulf of Mexico (GEG460000); Availability of Draft National Environmental Policy (NEPA) Categorial Exclusion (CatX). EPA is extending the comment period for 30 days, from July 10, 2023 to August 9, 2023, in response to a stakeholder requests.

DATES: The comment period for the proposed draft permit and supporting documents published in the Federal Register on June 9, 2023 (88 FR 37878) is being extended for thirty days. Comments must be received on or before August 9, 2023.

ADDRESSES: The draft NPDES general permit, permit fact sheet, draft CatX and other relevant documents are on file and may be inspected any time between 8:15 a.m. and 4:30 p.m., Monday through Friday at the address shown below. Copies of the draft NPDES general permit, permit fact sheet, draft CatX and other relevant documents may be obtained by writing the U.S. EPA-Region 4, Water Division (WD), NPDES Section, Sam Nunn Atlanta Federal Center, 61 Forsyth Street SW, Atlanta, Georgia 30303-8960, Attention: Ms. Bridget Staples, or by calling (404) 562-9783. Alternatively, copies of the draft NPDES general permit, permit fact sheet, draft CatX, Essential Fish Habitat Determination and preliminary Ocean Discharge Criteria Evaluation may be downloaded at: www.epa.gov/npdes-permits/eastern-gulf-mexico-offshore-oil-gas-npdes-permits.

FOR FURTHER INFORMATION CONTACT: Ms. Bridget Staples, EPA Region 4, WD, NPDES Section, by mail at the Atlanta address given above, by telephone at (404) 562-9783 or by email at Staples.Bridget@epa.gov.

SUPPLEMENTARY INFORMATION: On June 9, 2023, EPA published a Proposed draft permit and supporting documents (88 FR 37878) entitled Notice of Draft National Pollutant Discharge Elimination System (NPDES) General Permit for the Eastern Portion of the Outer Continental Shelf (OCS) of the Gulf of Mexico (GEG460000); Availability of Draft National Environmental Policy (NEPA) Categorial Exclusion (CatX) and requested public comment. The original deadline to submit comments was July 10, 2023. This extension would move the deadline to submit comments to August 9, 2023. Please see 88 FR 37878 for more information.

Dated: July 3, 2023.
Cesar Zapata,
Acting Director, Water Division.

[FR Doc. 2023-14484 Filed 7-7-23; 8:45 am]

BILLING CODE 6560-50-P